DEPARTMENT OF TRANSPORTATION

Federal Aviation Administration

Notice of Request to Release Property at Charlotte Douglas International Airport, Charlotte, NC (CLT)

AGENCY: Federal Aviation Administration (FAA), DOT.

ACTION: Notice.

SUMMARY: The Federal Aviation Administration is requesting public comment on a request by City of Charlotte, to release of land (8.62 acres) at Charlotte Douglas International Airport from federal obligations.

DATES: Comments must be received on or before July 15, 2022.

ADDRESSES: Comments on this notice may be emailed to the FAA at the following email address: FAA/Memphis Airports District Office, Attn: Jamal R. Stovall, Community Planner, Jamal.Stovall@faa.gov.

In addition, one copy of any comments submitted to the FAA must be mailed or delivered to Ms. Haley Gentry, Aviation Director, Charlotte Douglas International Airport at the following address: 5601 Wilkinson Blvd., Charlotte, NC 28208.

FOR FURTHER INFORMATION CONTACT: Jamal R Stovall, Community Planner, Federal Aviation Administration, Memphis Airports District Office, 2600, Thousand Oaks Boulevard, Suite 2250, Memphis, TN 38118-2482, Jamal.Stovall@faa.gov. The application may be reviewed in person at this same location, by appointment.

SUPPLEMENTARY INFORMATION: The FAA proposes to rule and invites public comment on the request to release property for disposal at Charlotte Douglas International Airport, 5601 Wilkinson Blvd., Charlotte, NC 28208, under the provisions of 49 U.S.C. 47107(h)(2). The FAA determined that the request to release property at Charlotte Douglas International Airport (CLT) submitted by the Sponsor meets the procedural requirements of the Federal Aviation Administration and the release of these properties does not and will not impact future aviation needs at the airport. The FAA may approve the request, in whole or in part, no sooner than thirty days after the publication of this notice.

The request consists of the following:

The City of Charlotte is proposing the release of airport property totaling 8.620 acres. The 12-Parcels located along and in the vicinity of Walkers Ferry Road were originally acquired under the Storm Water Management Plan in connection with the third parallel runway. The parcels subject to this release are non-aeronautical in use. The Properties are currently being rezoned for industrial use. The industrial (I-2) designation means the property will be used/sold for general industrial purposes. Deed restrictions will subject the Properties to appropriate height and use restrictions and an avigation easement to ensure compatibility with the uses of the Airport nearby. The property is located to the west of Interstate 485 and The Charlotte Douglas International Airport, bordered on the south by Walkers Ferry Road.

This request will release this property from federal obligations. This action is taken under the provisions of 49 U.S.C. 47107(h)(2).

Any person may inspect the request in person at the FAA office listed above under FOR FURTHER INFORMATION CONTACT.

In addition, any person may, upon request, inspect the request, notice and other documents germane to the request in person at the Charlotte Douglas International Airport.

Issued in Memphis, Tennessee, on June 7, 2022.
Tommy L. Dupree,
Manager, Memphis Airports District Office, Southern Region.

[FR Doc. 2022-12885 Filed 6-14-22; 8:45 am]

BILLING CODE 4910-13-P